POSTAL SERVICE

39 CFR Part 111

Domestic Mail Manual Revision to the 5% Error Limit for Sequenced Mailings

AGENCY: Postal Service.

ACTION: Proposed rule.

SUMMARY: The Postal Service is seeking comments on the following proposed rule change to the Domestic Mail Manual (DMM). Under this proposal, the 5% error limit for carrier route walk-sequenced mail is clarified to include line-of-travel (LOT)-sequenced mail. For all sequenced mail, no more than 5% of the total pieces in the entire carrier route mailing may be found out of sequence or sorted to the wrong carrier route.

DATES: Comments must be received on or before September 7, 2001.

ADDRESSES: Send written comments to the Manager, Business Mail Acceptance, U.S. Postal Service, 1735 North Lynn Street, Room 3011, Arlington, VA 22209-6030. Written comments may be submitted via fax to 703-292-3738. Copies of all written comments will be available for inspection and photocopying between 9:00 a.m. and 4:00 p.m., Monday through Friday, in Room 3011 at the above address.

FOR FURTHER INFORMATION CONTACT: Mary Bronson, 703-292-3539.

SUPPLEMENTARY INFORMATION: The Postal Service requires all mail claimed at the Periodicals basic carrier route rate or the Standard Mail Enhanced Carrier Route rate to be sequenced in either walk-sequence or line-of-travel (LOT) order. Current standards state that for each carrier route receiving mail, no more than 5% of the total pieces may be found out of sequence or sorted to the wrong carrier route. The 5% limitation for missorted or missequenced mail is applied to an individual carrier route because, until recently, the Postal Service was able to detect such errors only at the delivery unit and could not easily determine an error percentage for the entire mailing.

Due to technological innovations, the Postal Service now can detect missequenced carrier route pieces at and prior to acceptance, where the entire mailing can be evaluated. Therefore, the Postal Service proposes to amend the current standards to apply the 5% limit for walk-sequence and LOT errors to the entire mailing, and not to an individual carrier route. This change will make how the Postal Service determines eligibility for carrier route rates consistent with how it determines eligibility for other postage discounts. The Postal Service will use the established statistically valid sampling methods for business mail entry unit (BMEU) acceptance procedures to determine whether the 5% error limit is exceeded for the carrier route mailing.

Although exempt from the notice and comment requirements of the Administrative Procedure Act (5 U.S.C. 553(b), (c)) regarding proposed rulemaking by 39 U.S.C. 410(a), the Postal Service invites comments on the following proposed revisions to the Domestic Mail Manual, incorporated by reference in the Code of Federal Regulations. See 39 CFR Part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Amend the following sections of the Domestic Mail Manual (DMM) as set forth below:

M Mail Preparation and Sortation

M000 General Preparation Standards

* * * * *

M050 Delivery Sequence

* * * * *

2.0 ACCURACY

2.1 Error Rate—Walk Sequence

For carrier routes sequenced in walk-sequence order, no more than 5% of the total pieces in the mailing may be found out of sequence or sorted to the wrong carrier route.

2.2 Error Rate—Line-of-Travel Sequence

For carrier routes sequenced in line-of-travel (LOT) order, no more than 5% of the total pieces in the mailing may be found out of sequence or sorted to the wrong carrier route.

2.3 Pieces in Error

For this standard, pieces are not considered missorted or missequenced because of USPS scheme changes not yet incorporated in the scheme that the mailer was authorized to use to prepare the mailing. When sortation or sequencing errors over the applicable 5% limit in 2.1 and 2.2 are detected, the mailer is notified that they must re-sequence the mail or pay the next higher rate for which the mail qualifies. The percent of mail determined to be missorted or missequenced within the mailing is subject to additional postage for the difference between the carrier route rate claimed and the next higher rate for which the mail qualifies.

* * * * *

If this proposal is adopted, an appropriate amendment to 39 CFR 111.3 will be published to reflect this change.

Stanley F. Mires,
Chief Counsel, Legislative.

[FR Doc. 01-19806 Filed 8-7-01; 8:45 am]

BILLING CODE 7710-12-P